DEPARTMENT OF ENERGY

Federal Energy Regulatory Commission

Sunshine Act Meeting

May 19, 2004.

The following notice of meeting is published pursuant to section 3(a) of the Government in the Sunshine Act (Pub. L. 94-409), 5 U.S.C 552b:

Agency Holding Meeting: Federal Energy Regulatory Commission.

Date and Time: May 26, 2004, 10 a.m.

Place: Room 2C, 888 First Street, NE., Washington, DC 20426.

Status: Open.

Matters to be Considered: Agenda.

* Note: Items listed on the Agenda may be deleted without further notice.

FOR FURTHER INFORMATION CONTACT: Magalie R. Salas, Secretary, Telephone (202) 502-8400. For a recording listing items stricken from or added to the meeting, call (202) 502-8627.

This is a list of matters to be considerd by the Commission. It does not include a listing of all papers relevant to the items on the Agenda; however, all public documents may be examined in the Reference and Information Center.

860th—Meeting May 26, 2004, Regular Meeting, 10 a.m.

Administrative Agenda

A-1.

DOCKET# AD02-1, 000, Agency Administrative Matters

A-2.

DOCKET# AD02-7, 000, Customer Matters, Reliability, Security and Market Operations

Markets, Tariffs and Rates—Electric

E-1.

DOCKET# ER03-563, 030, Devon Power LLC, Middletown Power LLC, Montville Power LLC, Norwalk Power LLC and NRG Power Marketing Inc.

OTHER#S EL04-102,000, Devon Power LLC, Middletown Power LLC, Montville Power LLC, Norwalk Power LLC and NRG Power Marketing Inc.

E-2.

OMITTED

E-3.

DOCKET# ER04-691, 000, Midwest Independent Transmission System Operator, Inc.

E-4.

OMITTED

E-5.

DOCKET# ER04-714, 000, Florida Power & Light Company-New England Division

E-6.

DOCKET# ER04-697, 000, New England Power Pool

E-7.

DOCKET# ER04-677, 000, New England Power Pool

E-8.

DOCKET# ER04-641, 000, Duke Energy Lee, LLC

OTHER#S ER04-641, 001, Duke Energy Lee, LLC

E-9.

DOCKET# ER04-658, 000, Southwest Power Pool, Inc.

E-10.

DOCKET# ER04-589, 000, Commonwealth Edison Company

OTHER#S ER04-589, 001 Commonwealth Edison Company

ER04-594, 000, Commonwealth Edison Company

E-11.

OMITTED

E-12.

OMITTED

E-13.

DOCKET# ER04-742, 000, PJM Interconnection, L.L.C.

E-14.

OMITTED

E-15.

OMITTED

E-16.

DOCKET# ER03-861, 000, Entergy Services, Inc.

E-17.

DOCKET# ER03-1396, 000, Troy Energy, LLC

E-18.

OMITTED

E-19.

DOCKET# ER04-680, 000, Tenaska Virginia Partners, LP

OTHER#S ER04-680, 001, Tenaska Virginia Partners, LP

E-20.

DOCKET# OA96-194, 010, Niagara Mohawk Power Corporation

E-21.

DOCKET# ER03-552, 006, New York Independent System Operator, Inc.

OTHER#S ER03-552, 007, New York Independent System Operator, Inc.

ER03-552, 008, New York Independent System Operator, Inc.

ER03-984, 004, New York Independent System Operator, Inc.

ER03-984, 005, New York Independent System Operator, Inc.

ER03-984, 006, New York Independent System Operator, Inc.

E-22.

DOCKET# ER02-320, 007, Michigan Electric Transmission Company, LLC

E-23.

DOCKET# EL99-14, 005, Southwestern Electric Cooperative, Inc. v. Soyland Power Cooperative, Inc.

E-24.

DOCKET# EL01-50, 003, New York Independent System Operator, Inc.

E-25.

DOCKET# ER97-1523, 065, Central Hudson Gas & Electric Corporation, Consolidated Edison Company of New York, Inc., Long Island Lighting Company, New York State Electric & Gas Corporation, Niagara Mohawk Power Corporation, Orange and Rockland Utilities, Inc., Rochester Gas and Electric Corporation and New York Power Pool

OTHER#S OA97-470, 060, Central Hudson Gas & Electric Corporation, Consolidated Edison Company of New York, Inc., Long Island Lighting Company, New York State Electric & Gas Corporation, Niagara Mohawk Power Corporation, Orange and Rockland Utilities, Inc., Rochester Gas and Electric Corporation and New York Power Pool

OA97-470, 062, Central Hudson Gas & Electric Corporation, Consolidated Edison Company of New York, Inc., Long Island Lighting Company, New York State Electric & Gas Corporation, Niagara Mohawk Power Corporation, Orange and Rockland Utilities, Inc., Rochester Gas and Electric Corporation and New York Power Pool

ER97-1523, 067, Central Hudson Gas & Electric Corporation, Consolidated Edison Company of New York, Inc., Long Island Lighting Company, New York State Electric & Gas Corporation, Niagara Mohawk Power Corporation, Orange and Rockland Utilities, Inc., Rochester Gas and Electric Corporation and New York Power Pool

ER97-4234, 058, Central Hudson Gas & Electric Corporation, Consolidated Edison Company of New York, Inc., Long Island Lighting Company, New York State Electric & Gas Corporation, Niagara Mohawk Power Corporation, Orange and Rockland Utilities, Inc., Rochester Gas and Electric Corporation and New York Power Pool

ER97-4234, 060, Central Hudson Gas & Electric Corporation, Consolidated Edison Company of New York, Inc., Long Island Lighting Company, New York State Electric & Gas Corporation, Niagara Mohawk Power Corporation, Orange and Rockland Utilities, Inc., Rochester Gas and Electric Corporation and New York Power Pool

E-26.

DOCKET# QF86-159, 001, Zond Windsystem Partners, Ltd., Series 85-C

OTHER#S EL03-47, 001, Investigation of Certain Enron-Affiliated QF's

E-27.

DOCKET# EC04-88, 000, American Electric Power Service Corporation, Oklaunion Electric Generating Cooperative, Inc., and Golden Spread Electric Cooperative, Inc.

E-28.

DOCKET# EC04-66, 000, Entergy Asset Management, Inc., Entergy Power Ventures, L.P., Warren Power, LLC, and East Texas Electric Cooperative, Inc.

E-29.

DOCKET# ER01-2905, 002, Xcel Energy Services, Inc.

OTHER#S ER01-2905, 000, Xcel Energy Services, Inc.

ER01-2905,001, Xcel Energy Services, Inc.

E-30.

OMITTED

E-31.

DOCKET# ER04-23, 001, ISO New England Inc.

OTHER#S ER04-23, 004, ISO New England Inc.

E-32.

OMITTED

E-33.

DOCKET# ER04-35, 001, Entergy Services, Inc.

OTHER#S ER04-35, 002, Entergy Services, Inc.

E-34.

DOCKET# EL04-2, 001, Sacramento Municipal Utility District v. Pacific Gas and Electric Company, Southern California Edison Company and San Diego Gas & Electric Company

E-35.

DOCKET# EL04-11, 001, Californians for Renewable Energy, Inc. v. Calpine Energy Services, L.P. and the California Department of Water Resource

E-36.

OMITTED

E-37.

DOCKET# ER04-77, 003, Dayton Power and Light Company

OTHER#S ER04-77, 002, Dayton Power and Light Company

E-38.

OMITTED

E-39.

DOCKET# ER04-335, 001, New England Power Pool

OTHER#S ER04-335, 002, New England Power Pool

E-40.

DOCKET# EL04-43, 001, Tenaska Power Services Company v. Midwest Independent Transmission System Operator, Inc.

OTHER#S EL04-46, 001, Cargill Power Markets, LLC v. Midwest Independent Transmission System Operator, Inc.

E-41.

OMITTED

E-42.

OMITTED

E-43.

DOCKET# ER03-766, 003, New York Independent System Operator, Inc.

E-44.

DOCKET# EL04-92, 000, Northeast Utilities Service Company

E-45.

DOCKET# EL04-91, 000, Patrick C. Lynch, Attorney General of the State of Rhode Island v. ISO New England, Inc.

E-46.

OMITTED

E-47.

OMITTED

E-48.

OMITTED

E-49.

DOCKET# EL04-82, 000, NRG Power Marketing, Inc., Connecticut Jet Power LLC, Middletown Power LLC, Montville Power LLC, and Norwalk Power, LLC v. ISO New England, Inc.

E-50.

DOCKET# ER98-1438, 020 Midwest Independent Transmission System Operator, Inc.

OTHER#S EC98-24, 012, Midwest Independent Transmission System Operator, Inc.

E-51.

DOCKET# ER03-1206, 000, DTE East China, LLC and DTE Energy Trading, Inc.

E-52.

DOCKET# EL03-47, 001, Investigation of Certain Enron-Affiliated QF's

OTHER#S QF84-422, 002, Zond-PanAero Windsystem Partners I (ZP I)

QF85-263,002, Zond-PanAero Windsystem Partners II (ZP II)

E-53.

DOCKET# EL02-123, 002, Boston Edison Company

E-54.

DOCKET# ER03-1091, 000, Pacific Gas and Electric Company

OTHER#S ER03-1091, 001, Pacific Gas and Electric Company

ER03-1091,004, Pacific Gas and Electric Company

E-55.

DOCKET# ER04-717, 000, Orion Power MidWest, L.P.

Miscellaneous Agenda

M-1.

DOCKET# RM03-8, 001, Quarterly Financial Reporting and Revisions to the Annual Reports

Markets, Tariffs and Rates—Gas

G-1.

DOCKET# RP00-463, 006, Williston Basin Interstate Pipeline Company

G-2.

OMITTED

G-3.

OMITTED

G-4.

DOCKET# RP04-264, 000, ANR Pipeline Company

G-5.

DOCKET# PR04-7, 000, Raptor Natural Pipeline, LLC

PR04-7,001, Raptor Natural Pipeline, LLC

G-6.

DOCKET# RP03-292, 001, Viking Gas Transmission Company

G-7.

DOCKET# RP04-76, 000, Southern Star Central Gas Pipeline, Inc.

G-8.

OMITTED

G-9.

DOCKET# RP98-40, 000, Panhandle Eastern Pipe Line Company

G-10.

DOCKET# RP03-542, 001, Texas Eastern Transmission, LP

G-11.

DOCKET# RP03-492, 001, Columbia Gulf Transmission Company

G-12.

DOCKET# RP03-552, 001, Dominion Cove Point LNG, LP

G-13.

DOCKET# RP04-36, 000, Enbridge Pipelines (KPC)

G-14.

DOCKET# RP03-491, 001, Columbia Gas Transmission Corporation

G-15.

DOCKET# RP03-123, 002, Southern Natural Gas Company

OTHER#S RP02-86, 002, Southern Natural Gas Company

RP04-79, 001, Southern Natural Gas Company

G-16.

DOCKET# RP04-155, 002, Northern Natural Gas Company

OTHER#S RP03-398, 007, Northern Natural Gas Company

G-17.

OMITTED

G-18.

DOCKET# RP93-109, 020, Southern Star Central Gas Pipeline, Inc.

G-19.

DOCKET# RP03-398, 005, Northern Natural Gas Company

OTHER#S RP03-398, 004, Northern Natural Gas Company

G-20.

DOCKET# RP02-361, 025 Gulfstream Natural Gas System, L.L.C.

G-21.

DOCKET# RP04-267, 000, Transcontinental Gas Pipe Line Corporation

Energy Projects—Hydro

H-1.

DOCKET# P-77, 120, Pacific Gas and Electric Company

H-2.

DOCKET# P-2009, 031, Virginia Electric and Power Company, dba Dominion Virginia Power/Dominion North Carolina Power

H-3.

DOCKET# P-516, 380, South Carolina Electric & Gas Company

H-4.

OMITTED

H-5.

DOCKET# P-1494, 244, Grand River Dam Authority

Energy Projects—Certificates

C-1.

DOCKET# CP04-1, 000, ANR Pipeline Company

C-2.

DOCKET# CP04-67, 000, Algonquin Gas Transmission Company

C-3.

DOCKET# CP01-49, 004, Northwest Pipeline Corporation

The Capitol Connection offers the opportunity for remote listening and viewing of the meeting. It is available for a fee, live over the Internet, via C-Band Satellite. Persons interested in receiving the broadcast, or who need information on making arrangements should contact David Reininger or Julia Morelli at the Capitol Connection (703-993-3100) as soon as possible or visit the Capitol Connection Web site at http://www.capitolconnection.gmu.edu and click on “FERC”.

Magalie R. Salas,
Secretary.

[FR Doc. 04-11885 Filed 5-21-04; 11:16 am]

BILLING CODE 6717-01-P